DEPARTMENT OF THE INTERIOR

Bureau of Indian Affairs

Proclaiming Certain Lands, Lot 32 Acquisition, as an Addition to the Bay Mills Indian Reservation for the Bay Mills Indian Community of Michigan

AGENCY: Bureau of Indian Affairs, Interior.

ACTION: Notice of Reservation Proclamation.

SUMMARY: This notice informs the public that the Assistant Secretary—Indian Affairs proclaimed approximately 1 acre, more or less, to be added to the Bay Mills Indian Reservation for the Bay Mills Indian Community of Michigan.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual.

A proclamation was issued according with Section 7 of the Act of June 18, 1934 (48 Stat. 986; 25 U.S.C. 467), for the land described below. The land was proclaimed to be an addition to the Bay Mills Indian Reservation and part of the Bay Mills Indian Community of Michigan for the exclusive use of Indians on that Reservation who are entitled to reside at the Reservation by enrollment or tribal membership.

Bay Mills Indian Community Reservation, Lot 32 Acquisition, Michigan Meridian, Township of Bay Mills, Chippewa County, Michigan.

Lot 32, Spectacle Lake Subdivision, Part of Government Lot 1, Section 13, Township 47 North, range 3 West, Bay Mills Township, Chippewa County, according to the recorded Plat thereof, as recorded in Liber 9 of Plats, page 19, Chippewa County records.

The above-described land contains a total of 1 acre, more or less, which is subject to all valid rights, reservations, rights-of-way, and easements of record.

This proclamation does not affect title to the land described above, nor does it affect any valid existing easements for public roads and highways, public utilities and for railroads and pipelines and any other rights-of-way or reservations of record.

Dated: September 22, 2010.
Larry Echo Hawk,
Assistant Secretary—Indian Affairs.

[FR Doc. 2011-612 Filed 1-12-11; 8:45 am]

BILLING CODE 4310-W7 -P